DEPARTMENT OF TRANSPORTATION

Federal Aviation Administration

14 CFR Parts 43, 91, and 145

[Docket No. FAA-2006-26408; Notice No. 12-03]

RIN 2120-AJ61

Repair Stations; Extension of Comment Period

AGENCY: Federal Aviation Administration (FAA), DOT.

ACTION: Notice of proposed rulemaking (NPRM); Extension of comment period.

SUMMARY: This action extends the comment period for an NPRM that was published on May 21, 2012. In that document, the FAA proposed to update and revise the regulations for repair stations. This extension is a result of formal requests from repair stations and industry associations to extend the comment period to the proposal. This extension is necessary to afford all interested parties an opportunity to present their views on the proposed rulemaking.

DATES: Comments must be received on or before November 19, 2012.

ADDRESSES: You may send comments identified by Docket No. FAA-2006-26408 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: We will post all comments we receive, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: James M. Crotty, ARM-205, Office of Rulemaking, Federal Aviation Administration, 800 Independence Avenue SW., Washington, DC 20591, telephone (202) 267-9456; email James.M.Crotty@faa.gov.

SUPPLEMENTARY INFORMATION: See the “Additional Information” section in the NPRM (77 FR 30054) for further information on how to comment on the proposals in the NPRM and how the FAA will handle comments received. The “Additional Information” section also contains related information about the docket, privacy, and the handling of proprietary or confidential business information. In addition, there is information on obtaining copies of related rulemaking documents.

Background

On May 21, 2012, the FAA issued Notice No. 12-03, entitled “Repair Stations” (77 FR 30054). Comments to that document were to be received on or before August 20, 2012.

By letter dated August 3, 2012, nine associations representing a large cross-section of the aviation industry jointly requested that the FAA extend the comment period for 90 days (Aeronautical Repair Station Association, Aerospace Industries Association, Aircraft Electronics Association, Aircraft Owners and Pilots Association, Airlines for America, Helicopter Association International, National Air Carrier Association, National Air Transportation Association, and Regional Airline Association). The petitioners stated that good cause and need for an extended comment period arises from the scope and extent of the proposed changes, coupled with the effects it will have between and among individual companies represented by the petitioners. Further, the petitioners noted that many repair stations are small businesses which do not have departments or personnel dedicated to reviewing regulatory changes. As such, they may not be aware of the proposals, and the petitioners need more time to reach these small businesses and gather their input. Finally, the petitioners stated that more time is needed to consolidate its members' comments and coordinate these comments among the group.

The FAA agrees with the petitioners' request for an extension of the comment period. We recognize the NPRM's contents are significant and complex. Further, we understand that it is the intention of the petitioners to continue to canvass their members for comments, and to coordinate and consolidate the additional comments.

Absent unusual circumstances, the FAA does not anticipate any further extension of the comment period for this rulemaking.

Extension of Comment Period

In accordance with § 11.47(c) of Title 14, Code of Federal Regulations, the FAA has reviewed the joint petition made by the nine associations for extension of the comment period to Notice No. 12-03. These petitioners have shown a substantive interest in the proposed rule and good cause for the extension. The FAA has determined that extension of the comment period is consistent with the public interest, and that good cause exists for taking this action.

Accordingly, the comment period for Notice No. 12-03 is extended to November 19, 2012.

Issued in Washington, DC, on August 13, 2012.
Brenda D. Courtney,
Acting Director, Office of Rulemaking.

[FR Doc. 2012-20277 Filed 8-16-12; 8:45 am]

BILLING CODE 4910-13-P